Title 3—

The President

Proclamation 8615 of December 7, 2010

National Influenza Vaccination Week, 2010

By the President of the United States of America

A Proclamation

Last year, as the world prepared for a pandemic of the 2009 H1N1 influenza virus, we were reminded of the severity and unpredictability of this serious disease. Thousands of Americans suffered serious complications from the 2009 H1N1 influenza virus, resulting in hospitalization or even death. Tragically, influenza and flu-related complications take American lives each year. During National Influenza Vaccination Week, we remind all Americans that the flu vaccine is safe and effective in preventing the spread of flu viruses.

Annual flu vaccination is recommended for all people 6 months of age and older. Under the new health reform law, the Affordable Care Act, individuals enrolled in new group or individual private health plans have no co-payment or deductible for influenza vaccinations. While the flu can make even healthy children and adults very sick, certain individuals are at greater risk for serious complications from the flu. Pregnant women, young children, older adults, as well as people living with HIV, chronic lung disease, diabetes, heart disease, neurologic conditions, and certain other chronic health conditions are especially encouraged to get a flu vaccine. Our Nation’s health care workers and those caring for infants under 6 months of age should also be vaccinated to protect themselves and those within their care. I encourage all Americans to visit www.Flu.gov for information and resources on vaccinations and how to prevent and treat the flu.

Everyone can take steps to promote America’s health this flu season. Though there is no way to accurately predict the course or severity of influenza, we know from experience that it will pose serious health risks for thousands of Americans this season. We can all take common-sense precautions to prevent infection with influenza, including washing hands frequently, covering coughs or sneezes with sleeves and not hands, and staying home when ill.

However, vaccination is the best protection against contracting and spreading the flu. The vaccine is available through doctors’ offices, clinics, State and local health departments, pharmacies, college and university health centers, as well as through many employers and some primary and secondary schools. Seasonal flu activity is usually most intense between January and March, and vaccinating now can help curb the spread of this disease. Together, we can prepare as individuals and as a Nation for this year’s flu season and help ensure that our fellow Americans remain healthy and safe.

NOW, THEREFORE, I, BARACK OBAMA, President of the United States of America, by virtue of the authority vested in me by the Constitution and the laws of the United States, do hereby proclaim December 5 through December 11, 2010, as National Influenza Vaccination Week. I encourage Americans to get vaccinated this week if they have not yet done so, and to urge their families, friends, and co-workers to do the same.

IN WITNESS WHEREOF, I have hereunto set my hand this seventh day of December, in the year of our Lord two thousand ten, and of the Independence of the United States of America the two hundred and thirty-fifth.

[FR Doc. 2010-31292

Filed 12-9-10; 11:15 am]

Billing code 3195-W1-P